DEPARTMENT OF COMMERCE

Foreign-Trade Zones Board

[B-6-2013]

Foreign-Trade Zone 22—Chicago, Illinois; Authorization of Production Activity Panasonic Corporation of North America (Kitting of Consumer Electronics) Aurora, Illinois

On January 11, 2013, the Illinois International Port District, grantee of FTZ 22, submitted a notification of proposed production activity to the Foreign-Trade Zones (FTZ) Board on behalf of Panasonic Corporation of North America, within Site 28, in Aurora, Illinois.

The notification was processed in accordance with the regulations of the FTZ Board (15 CFR part 400), including notice in the Federal Register inviting public comment (78 FR 5773, 1-28-2013). The FTZ Board has determined that no further review of the activity is warranted at this time. The production activity described in the notification is authorized, subject to the FTZ Act and the Board's regulations, including Section 400.14.

Dated: May 13, 2013.
Elizabeth Whiteman,
Acting Executive Secretary.

[FR Doc. 2013-11679 Filed 5-15-13; 8:45 am]

BILLING CODE 3510-DS-P